DEPARTMENT OF THE INTERIOR

Bureau of Land Management

[WY-957-9820-BJ-P]

Filing of Plats of Survey; Nebraska

AGENCY: Bureau of Land Management, Interior.

ACTION: Notice.

The plat representing the dependent resurvey of a portion of the Eighth Standard Parallel North, through Range 53 West, portions of the west and north boundaries, and a portion of the subdivisional lines, and the subdivision of certain sections, T. 33 N., R. 53 W., Sixth Principal Meridian, Nebraska, Group No. 139, was accepted May 31, 2002.

FOR FURTHER INFORMATION CONTACT: John P. Lee, (307) 775-6216, Bureau of Land Management, 5353 Yellowstone Road, Cheyenne, Wyoming 82009.

Dated: May 31, 2002.
John P. Lee,
Chief Cadastral Surveyor for Wyoming.

[FR Doc. 02-16009 Filed 6-24-02; 8:45 am]

BILLING CODE 4310-22-P